DEPARTMENT OF THE TREASURY

Alcohol and Tobacco Tax and Trade Bureau

27 CFR Parts 4, 5, 7, 26, and 27

[Docket Nos. TTB-2019-0004 and TTB-2019-0005; Notice No. 184; Re: Notice Nos. 182 and 183]

RINS 1513-AB56 and 1513-AC45

Elimination of Certain Standards of Fill for Wine; and Elimination of Certain Standards of Fill for Distilled Spirits; Amendment of Malt Beverage Net Contents Labeling Regulation

AGENCY: Alcohol and Tobacco Tax and Trade Bureau, Treasury.

ACTION: Notices of proposed rulemaking; extension of comment periods.

SUMMARY: The Alcohol and Tobacco Tax and Trade Bureau (TTB) is extending for an additional 60 days the comment periods for the two notices of proposed rulemaking it published on July 1, 2019, entitled, “Elimination of Certain Standards of Fill for Wine” and “Elimination of Certain Standards of Fill for Distilled Spirits; Amendment of Malt Beverage Net Contents Labeling Regulation.” TTB is taking this action in response to requests to extend the comment periods for those proposed rulemakings made by several interested parties.

DATES: For Notice No. 182 and Notice No. 183, proposed rules published on July 1, 2019, at 84 FR 31257 and 84 FR 31264, respectively, comments are now due on or before October 30, 2019.

ADDRESSES: Please send your comments on Notice No. 182 and/or Notice No. 183 to one of the following addresses:

• internet: https://www.regulations.gov (via the online comment form for Notice No. 182 as posted within Docket No. TTB-2019-0004, or the online comment form for Notice No. 183 as posted within Docket No. TTB-2019-0005, at “Regulations.gov,” the Federal e-rulemaking portal);

• U.S. mail: Director, Regulations and Rulings Division, Alcohol and Tobacco Tax and Trade Bureau, 1310 G Street NW, Box 12, Washington, DC 20005; or

• Hand delivery/courier in lieu of mail: Alcohol and Tobacco Tax and Trade Bureau, 1310 G Street NW, Suite 400, Washington, DC 20005.

Please refer to the specific notice number you are commenting on in your comment. See the Public Participation section of Notice No. 182 or Notice No. 183 for specific instructions and requirements for submitting comments. You may view copies of the two proposed rules, this comment period extension document, and all public comments associated with the proposed rules within Docket Nos. TTB-2019-0004 and TTB-2019-0005 on the Regulations.gov website at https://www.regulations.gov. You also may view copies of these materials by appointment at the TTB Public Reading Room, 1310 G Street NW, Washington, DC 20005. Please call 202-453-1039, ext. 135 to make an appointment.

FOR FURTHER INFORMATION CONTACT: Jennifer Berry, Alcohol and Tobacco Tax and Trade Bureau, Regulations and Rulings Division; telephone 202-453-1039, ext. 275.

SUPPLEMENTARY INFORMATION: On July 1, 2019, the Alcohol and Tobacco Tax and Trade Bureau (TTB) published two proposed rules in the Federal Register:

• Notice No. 182, Elimination of Certain Standards of Fill for Wine, at 84 FR 31257; and

• Notice No. 183, Elimination of Certain Standards of Fill for Distilled Spirits; Amendment of Malt Beverage Net Contents Labeling Regulation, at 84 FR 31264.

In the two proposed rules, TTB addresses petitions requesting that TTB amend the regulations that govern wine and distilled spirits containers to provide for additional authorized standards of fill. As discussed in Notice No. 182, TTB is proposing to eliminate all but a minimum standard of fill for wine containers, and, as discussed in Notice No. 183, TTB is proposing to eliminate all but minimum and maximum standards of fill for distilled spirits containers. The term “standard of fill” as used in the TTB regulations and in the two proposed rules refers to the authorized amount of liquid in the container (for example, 50 mL, 100 mL, 375 mL, 750 mL, and 1 liter) rather than the size or capacity of the container itself.

In addition, in Notice No. 183, TTB is also proposing to specifically provide that distilled spirits may be labeled with the equivalent standard United States (U.S.) measure in addition to the mandatory metric measure, and that malt beverages may be labeled with the equivalent metric measure in addition to the mandatory U.S. measure. These revisions will align those labeling regulations with current TTB policy, which allows such labeling, and also with the wine labeling regulations, which provide that wine labels may include the equivalent U.S. measure in addition to the mandatory metric measure.

As discussed in each proposed rule, in addition to comments on the proposed deregulatory actions, TTB is also requesting comments on the relative merits of alternatives, such as adding new authorized standards of fill and developing an expedited process for adding additional standards in the future. TTB believes that all of these approaches would eliminate restrictions that inhibit competition and the movement of goods in domestic and international commerce.

To date, TTB has received requests to extend the comment period for either Notice No. 182 or Notice No. 183 from three national associations and the European Commission.

The Wine Institute requested a 90-day extension of the comment period for Notice No. 182, stating that TTB issued the notice at a time when their members are engaged in longer business hours in preparation for harvest, with limited time to devote to the issues raised. In addition, the comment states that the group needs additional time to identify interested parties, including both its members and other wine trade associations, to discuss how best to respond.

The American Distilled Spirits Association (ADSA) requested a 90-day extension of Notice No. 183, stating that it and its member companies require “substantial time to fully and properly address this significant request for comment.” The National Alcohol Beverage Control Association (NABCA), which describes itself as representing the States and local jurisdictions that directly control the distribution and sale of alcohol beverages within their borders, is also requesting a 90-day extension of the comment period for Notice No. 183. NABCA states that it requires additional time to coordinate among its member jurisdictions to develop comments to the issues raised in Notice No. 183.

In addition, TTB has received a request from the European Commission to extend the comment period for Notice No. 183 until September 13, 2019, to allow for coordination of European Union comments on the proposed rule.

In response to these requests, TTB is extending the comment period for Notice No. 182 and Notice No. 183 for an additional 60 days. TTB believes that a 60-day extension of the two comment periods, which in addition to the original 60-day comment period will provide 120 days overall for comment, will be of sufficient length to allow interested parties to consider and comment on the issues raised in the two notices, while allowing TTB to conclude the rulemaking process in a more timely manner.

Therefore, TTB will now accept public comments on Notice No. 182 and Notice No 183 through October 30, 2019.

Signed: August 6, 2019.
Mary G. Ryan,
Acting Administrator.

[FR Doc. 2019-17155 Filed 8-9-19; 8:45 am]

BILLING CODE 4810-31-P